FEDERAL COMMUNICATIONS COMMISSION

MB Docket No. 18-349; DA 21-851; FR ID 40028]

Media Bureau Extends Comment and Reply Comment Deadlines To Update the Record in the 2018 Quadrennial Review

AGENCY: Federal Communications Commission.

ACTION: Notice.

SUMMARY: In this document, the Commission grants a motion for extension of time in the 2018 Quadrennial Review record update to extend the comment and reply comment deadlines.

DATES:

Comment Date: September 2, 2021.

Reply Comment Date: October 1, 2021.

FOR FURTHER INFORMATION CONTACT: Ty Bream, Media Bureau, Industry Analysis Division, Ty.Bream@fcc.gov, (202) 418-0644.

SUPPLEMENTARY INFORMATION: This is a summary of the Media Bureau's Public Notice in MB Docket No. 18-349, DA 21-851, that was released on July 16, 2021. The complete text of this document is available electronically via the search function on the FCC's Electronic Document Management System (EDOCS) web page at https://apps.fcc.gov/edocs_public/ (https://apps.fcc.gov/edocs_public/). Documents will be available electronically in ASCII, Microsoft Word, and/or Adobe Acrobat. Alternative formats are available for people with disabilities (Braille, large print, electronic files, audio format, etc.) and reasonable accommodations (accessible format documents, sign language interpreters, CART, etc.) may be requested by sending an email to fcc504@fcc.gov or calling the FCC's Consumer and Governmental Affairs Bureau at (202) 418-0530 (voice), (202) 418-0432 (TTY).

Synopsis

1. By this Public Notice, the Media Bureau extends the deadlines for filing comments and reply comments in the above-captioned proceeding. On June 4, 2021, the Media Bureau released a Public Notice, 86 FR 35089 (July 1, 2021), seeking to update the record in the 2018 Quadrennial Review proceeding, in which the Commission has sought comment, pursuant to its obligation under Section 202(h) of the Telecommunications Act of 1996, on whether its media ownership rules remain “necessary in the public interest as the result of competition.” On July 1, 2021, the Media Bureau announced a comment filing deadline of August 2, 2021, and a reply comment filing deadline of August 30, 2021, for record updates to the above-captioned proceeding.

2. On July 12, 2021, Common Cause, Free Press, the Multicultural Media, Telecom and Internet Council (MMTC), the National Association of Black Owned Broadcasters (NABOB), and the National Association of Broadcasters (NAB) (collectively, Joint Filers) requested an extension of the comment and reply comment filing deadlines until September 2 and October 1, 2021, respectively. The Joint Filers explain that, as more than two years have passed since the original comment cycle in this proceeding was completed, there have been many economic and legal developments in the media industry in that time. The Joint Filers state that they and other interested parties need additional time to address the many complex economic and legal issues through research, updates to previously filed material, and new information.

3. As set forth in section 1.46(a) of the Commission's rules, the Commission's policy is that extensions of time shall not be routinely granted. We find, however, that the Joint Filers have set forth a sufficient justification to warrant grant of their requested extension. As an extension should enable interested parties to present more complete and thoughtful comments to the Commission, we agree with the Joint Filers that both the parties commenting in the proceeding and the Commission should benefit and that the extension should not disadvantage any party. Accordingly, we grant the Joint Filers' request and extend the comment and reply comment deadlines by approximately a month, until September 2, 2021, and October 1, 2021, respectively.

4. For additional information on this proceeding, contact Ty Bream, Ty.Bream@fcc.gov, of the Media Bureau, Industry Analysis Division. Press inquiries should be directed to Janice Wise, Janice.Wise@fcc.gov, (202) 418-8165.

Federal Communications Commission.
Thomas Horan,
Chief of Staff, Media Bureau.

[FR Doc. 2021-16127 Filed 7-28-21; 8:45 am]

BILLING CODE 6712-01-P